DEPARTMENT OF THE INTERIOR

Bureau of Land Management

[19X.LLAZ921000.L14400000.BJ0000.LXSSA2250000.241A]

Notice of Filing of Plat of Survey; Arizona

AGENCY: Bureau of Land Management, Interior.

ACTION: Notice of official filing.

SUMMARY: The plats of survey of the following described lands are scheduled to be officially filed 30 days after the date of this publication in the Bureau of Land Management (BLM), Arizona State Office, Phoenix, Arizona. The surveys announced in this notice are necessary for the management of lands administered by the agency indicated.

ADDRESSES: These plats will be available for inspection in the Arizona State Office, Bureau of Land Management, One North Central Avenue, Suite 800, Phoenix, Arizona, 85004-4427. Protests of any of these surveys should be sent to the Arizona State Director at the above address.

FOR FURTHER INFORMATION CONTACT: Gerald Davis, Chief Cadastral Surveyor of Arizona; (602) 417-9558; gtdavis@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION:

The Gila and Salt River Meridian, Arizona

The plat, in one sheet, representing the survey of the east and west boundaries, the subdivisional lines, and the subdivision of certain sections, Township 36 North, Range 15 East, accepted September 12, 2019, for Group 1186, Arizona.

This plat was prepared at the request of the United States Bureau of Indian Affairs.

The plat, in one sheet, representing the dependent resurvey of a portion of the subdivisional lines, the subdivision of section 8, and metes-and bounds surveys in section 8, Township 18 North, Range 24 East, accepted September 12, 2019, for Group 1191, Arizona.

This plat was prepared at the request of the United States National Park Service.

The San Bernardino Meridian, Arizona

The supplemental plat, in one sheet, showing the amended lotting in sections 28 and 29, Township 16 South, Range 22 East, accepted September 12, 2019, for Group 9116, Arizona.

This plat was prepared at the request of the Bureau of Land Management.

A person or party who wishes to protest against any of these surveys must file a written notice of protest within 30 calendar days from the date of this publication with the Arizona State Director, Bureau of Land Management, stating that they wish to protest.

A statement of reasons for a protest may be filed with the notice of protest to the State Director, or the statement of reasons must be filed with the State Director within 30 days after the protest is filed. Before including your address, or other personal information in your protest, please be aware that your entire protest, including your personal identifying information, may be made publicly available at any time. While you can ask us in your comment to withhold your personal identifying information from public review, we cannot guarantee that we will be able to do so.

Authority: 43 U.S.C. Chap. 3.

Gerald T. Davis,
Chief Cadastral Surveyor of Arizona.

[FR Doc. 2019-20542 Filed 9-20-19; 8:45 am]

BILLING CODE 4310-32-P